DEPARTMENT OF AGRICULTURE

Food and Nutrition Service

7 CFR Part 275

Performance Reporting System

CFR Correction

In Title 7 of the Code of Federal Regulations, Parts 210 to 299, revised as of January 1, 2015, on page 944, in § 275.11, in paragraph (g), remove the fourth sentence which reads “However, all results of reviews of active and negative demonstration project/SSA processed cases shall be excluded from the determination of State agencies' active and negative case error rates, payment error rates, and underissuance error rates as described in § 275.23(c).”

[FR Doc. 2015-32200 Filed 12-22-15; 8:45 am]

BILLING CODE 1505-01-D